DEPARTMENT OF THE INTERIOR

Fish and Wildlife Service

50 CFR Part 17

[Docket No. FWS-R8-ES-2013-0072; 4500030113]

RIN 1018-AY10

Endangered and Threatened Wildlife and Plants; Threatened Status for the Bi-State Distinct Population Segment of Greater Sage-Grouse With Special Rule

AGENCY: Fish and Wildlife Service, Interior.

ACTION: Proposed rule; reopening of the comment period.

SUMMARY: We, the U.S. Fish and Wildlife Service (Service), announce the reopening of the public comment period on our October 28, 2013, proposed rule to list the bi-State distinct population segment (DPS) of greater sage-grouse (Centrocercus urophasianus) as threatened under the Endangered Species Act of 1973, as amended, with a special rule. We are taking this action based on new information received regarding population trends, and recent State and Federal agency funding and staffing commitments for various conservation efforts associated with the Bi-State Action Plan, making it necessary to solicit feedback by reopening the comment period for 30 days. Comments previously submitted need not be resubmitted, as they will be fully considered in preparation of the final listing determination. We anticipate publishing a final listing determination on or before April 28, 2015.

DATES: The comment period for the proposed rule published in the Federal Register on October 28, 2013 (78 FR 64358), is reopened. We will consider comments received or postmarked on or before September 4, 2014. Comments submitted electronically using the Federal eRulemaking Portal (see ADDRESSES section, below) must be received by 11:59 p.m. Eastern Time on the closing date. Any comments that we receive after the closing date may not be considered in the final decision on this action.

ADDRESSES: Document availability: You may obtain copies of the proposed rule and associated documents and letters discussed in this supplement to the proposed rule on the Internet at http://www.regulations.gov at Docket No. FWS-R8-ES-2013-0072, or contact the U.S. Fish and Wildlife Service, Nevada Fish and Wildlife Office (see FOR FURTHER INFORMATION CONTACT).

Written comments: You may submit written comments by one of the following methods:

(1) Electronically: Go to the Federal eRulemaking Portal: http://www.regulations.gov. In the Search box, enter FWS-R8-ES-2013-0072, which is the docket number for this rulemaking. Then, in the Search panel on the left side of the screen, under the Document Type heading, click on the Proposed Rules link to locate the document. You may submit a comment by clicking on “Comment Now!”

(2) By hard copy: Submit by U.S. mail to: Public Comments Processing, Attn: FWS-R8-ES-2013-0072; U.S. Fish and Wildlife Service Headquarters, MS: BPHC, 5275 Leesburg Pike, Falls Church, VA 22041-3803.

We request that you send comments only by the methods described above. We will post all comments on http://www.regulations.gov. This generally means that we will post any personal information you provide us (see the Information Requested section below for more information).

FOR FURTHER INFORMATION CONTACT: For information on the proposed listing rule, proposed special rule, and proposed critical habitat designation, contact Edward D. Koch, State Supervisor, U.S. Fish and Wildlife Service, Nevada Fish and Wildlife Office, 1340 Financial Boulevard, Suite 234, Reno, NV 89502; telephone 775-861-6300; or facsimile 775-861-6301. Persons who use a telecommunications device for the deaf (TDD) may call the Federal Information Relay Service (FIRS) at 800-877-8339.

SUPPLEMENTARY INFORMATION:

Background

On October 28, 2013, we published a proposed rule to list the bi-State DPS of greater sage-grouse (Centrocercus urophasianus) in California and Nevada as a threatened species under the Endangered Species Act of 1973, as amended (Act) (78 FR 64358), with a special rule. We concurrently published a proposed rule to designate critical habitat (78 FR 64328). We received requests to extend the public comment periods on the rules beyond the December 27, 2013, due date. In order to ensure that the public had an adequate opportunity to review and comment on our proposed rules, we extended the comment periods for an additional 45 days to February 10, 2014 (78 FR 77087; December 20, 2013).

On April 8, 2014, we reopened the comment period on our October 28, 2013, proposed rule to list the bi-State DPS, the special rule, and the proposed critical habitat rule (79 FR 19314). We also announced two public hearings that were subsequently postponed (79 FR 26684, May 9, 2014) to May 28, 2014, and May 29, 2014, respectively. The April 8, 2014, document also announced a 6-month extension of the final determination of whether or not to list the bi-State DPS as a threatened species, which will automatically delay any decision we make regarding critical habitat for the bi-State DPS. The comment period was reopened and extended to June 9, 2014, and our decision to delay the final listing action was because of substantial disagreement regarding the sufficiency or accuracy of the available data relevant to the proposed listing, making it necessary to solicit additional information. Thus, we announced that we will publish a listing determination on or before April 28, 2015. On June 3, 2014, we announced an extension of the comment period on the proposed critical habitat rule (79 FR 31901), the availability of a draft economic analysis of the proposed designation of critical habitat for the bi-State DPS, and an amended required determinations section of the proposed critical habitat rule (available on the Internet at http://www.regulations.gov at Docket No. FWS-R8-ES-2013-0042).

Since publication of the proposed listing rule, we have received new information on the population trends of the bi-State DPS. The publication models population growth and trajectory of the bi-State DPS across its range as well as within individual subpopulations contained within the DPS. These data may characterize risk to the bi-State DPS and predict future population trends. This information is available on the Internet at http://www.regulations.gov at Docket No. FWS-R8-ES-2013-0072).

In addition to this new trend information, we have continued to work closely with our interagency partners to implement and plan conservation actions that benefit the bi-State DPS and its habitat. These conservation efforts are embodied primarily in the formalized Bi-State Action Plan (Bi-State Technical Advisory Committee 2012), which is a multiagency management plan that outlines approximately 80 specific actions needed to address ongoing and future threats to the Bi-State DPS and its habitat. We recently received State and Federal agency letters (available on the Internet at http://www.regulations.gov at Docket No. FWS-R8-ES-2013-0072) that document commitments for the necessary funding and staff required to implement conservation actions in the Bi-State Action Plan. We note that the necessary regulatory mechanisms to implement these conservation efforts are currently in place; in some cases, associated management plans are being revised to ensure the conservation efforts are successfully implemented to address threats that may be acting on the DPS or its habitat. As part of our final listing determination, we will examine the various conservation efforts that are currently in progress and anticipated in the future throughout the range of the bi-State DPS. We will evaluate existing regulatory mechanisms (and associated management plans) and volunteer efforts for their biologically meaningful contribution to the conservation of the bi-State DPS and its habitat.

Information Requested

We will accept written comments and information during this reopened comment period on our proposed listing (and special 4(d) rule) for the bi-State DPS that published in the Federal Register on October 28, 2013 (78 FR 64358). We will consider information and recommendations from all interested parties. We intend that any final action resulting from the proposal be as accurate as possible and based on the best available scientific and commercial data.

We are particularly interested in new information and comments regarding:

(1) New population trend information and analysis (currently available on the Internet at http://www.regulations.gov at Docket No. FWS-R8-ES-2013-0072).

(2) Whether there is scientific information in addition to that considered in our proposed rule and the new population trends data currently available as supporting information (on the Internet at http://www.regulations.gov at Docket No. FWS-R8-ES-2013-0072) that may be useful in our analysis.

(3) The scope of the proposed 4(d) rule.

(4) Consideration of the various conservation commitments (as outlined in the State and Federal agency letters available on the internet at http://www.regulations.gov, Docket No. FWS-R8-ES-2013-0072), which are consistent with the Bi-State Action Plan.

If you submitted comments or information on the proposed rule (78 FR 64358) during the initial comment period from October 28, 2013, to February 10, 2014, or the subsequent comment period from April 8, 2014, to June 9, 2014, please do not resubmit them. We have incorporated them into the public record, and we will consider them in the preparation of our final determination. Our final determination concerning the listing and special rule will take into consideration all written comments and any additional information we receive.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed listing and special rule will be available for public inspection on http://www.regulations.gov at Docket No. FWS-R8-ES-2013-0072, or by appointment, during normal business hours, at the U.S. Fish and Wildlife Service, Nevada Fish and Wildlife Office (see FOR FURTHER INFORMATION CONTACT). You may obtain copies of the proposed rule on the Internet at http://www.regulations.gov at Docket No. FWS-R8-ES-2013-0072, or at the U.S. Fish and Wildlife Service, Nevada Fish and Wildlife Office (see FOR FURTHER INFORMATION CONTACT).

Authority

The authority for this action is the Endangered Species Act of 1973, as amended (16 U.S.C. 1531 et seq.).

Dated: July 17, 2014.
Stephen Guertin,
Acting Director, U.S. Fish and Wildlife Service.

[FR Doc. 2014-18180 Filed 8-4-14; 8:45 am]

BILLING CODE 4310-55-P